DEPARTMENT OF COMMERCE

United States Patent and Trademark Office

[Docket No. PTO-C-2014-0038]

Performance Review Board (PRB)

AGENCY: United States Patent and Trademark Office, Commerce.

ACTION: Notice.

SUMMARY: In conformance with the Civil Service Reform Act of 1978, the United States Patent and Trademark Office announces the appointment of persons to serve as members of its Performance Review Board.

ADDRESSES: Director, Human Capital Management, Office of Human Resources, United States Patent and Trademark Office, P.O. Box 1450, Alexandria, VA 22313-1450.

FOR FURTHER INFORMATION CONTACT: Karen Karlinchak at (571) 272-8717.

SUPPLEMENTARY INFORMATION: The membership of the United States Patent and Trademark Office Performance Review Board is as follows:

Michelle K. Lee, Chair, Deputy Under Secretary of Commerce for Intellectual Property and Deputy Director of the United States Patent and Trademark Office

Frederick W. Steckler, Vice Chair, Chief Administrative Officer, United States Patent and Trademark Office

Margaret A. Focarino, Commissioner for Patents, United States Patent and Trademark Office

Mary Boney Denison, Deputy Commissioner for Trademark Operations, United States Patent and Trademark Office

Anthony P. Scardino, Chief Financial Officer, United States Patent and Trademark Office

John B. Owens II, Chief Information Officer, United States Patent and Trademark Office

Sarah T. Harris, General Counsel, United States Patent and Trademark Office

Shira Perlmutter, Chief Policy Officer and Director for International Affairs, United States Patent and Trademark Office

Alternates

Sharon R. Marsh, Deputy Commissioner for Trademark Examination Policy, United States Patent and Trademark Office

Andrew I. Faile, Deputy Commissioner for Patent Operations, United States Patent and Trademark Office

Dated: September 9, 2014.
Michelle K. Lee,
Deputy Under Secretary of Commerce for Intellectual Property and Deputy Director of the United States Patent and Trademark Office.

[FR Doc. 2014-22066 Filed 9-15-14; 8:45 am]

BILLING CODE 3510-16-P